DEPARTMENT OF EDUCATION

Striving Readers Comprehensive Literacy Program

AGENCY: Office of Elementary and Secondary Education, U.S. Department of Education.

ACTION: Notice of public meeting and request for input to gather technical expertise pertaining to the U.S.

Catalog of Federal Domestic Assistance (CFDA) Number: 84.371C.

Department of Education's (Department) development of a State competition for funding under the Striving Readers Comprehensive Literacy program.

SUMMARY: By February 2011, the Secretary of Education (Secretary) intends to announce a competition for State educational agency (SEA) projects to support comprehensive literacy development and to advance literacy skills, including pre-literacy skills, reading, and writing, for students from birth through grade 12, including limited-English-proficient students and students with disabilities. To inform the development of a notice inviting applications that establishes the requirements for this competition, the Secretary is seeking input from States, technical experts, and members of the public through a public meeting and written submissions. Following the public meeting and review of the written submissions, the Department will publish a notice inviting applications for this competition.

DATES: The public meeting will occur on Friday, November 19, 2010, in Washington, DC, at the Department's Potomac Center Plaza (PCP) Auditorium, 550 12th Street, SW.; from 9:00 a.m. to 12:00 p.m. and from 1:00 p.m. to 4:00 p.m., Washington, DC time. Written submissions must be received by the Department on or before 5:00 p.m., Washington, DC time, on November 19, 2010.

ADDRESSES: For those submitting written input, we encourage submissions by e-mail using the following address: Striving.readers.comprehensive.literacy@ed.gov. You must include the term “Striving Readers Public Input” in the subject line of your e-mail. If you prefer to send your input by mail, address it to Office of Elementary and Secondary Education, Attention: Striving Readers Public Input Meeting, U.S. Department of Education, 400 Maryland Avenue, SW., room 3E230, Washington, DC 20202.

FOR FURTHER INFORMATION CONTACT: Deborah Spitz, U.S. Department of Education, 400 Maryland Avenue, SW., room 3E230, Washington, DC 20202. Telephone: 202-260-3793 or by e-mail: Striving.readers.comprehensive.literacy@ed.gov.

If you use a telecommunications device for the deaf (TDD), call the Federal Relay Service (FRS), toll free, at 1-800-877-8339.

SUPPLEMENTARY INFORMATION: Background: The Striving Readers program is authorized as part of the Consolidated Appropriations Act, 2010 (Pub. L. 111-117) (the Act) under the demonstration authority in Title I, part E, section 1502 of the Elementary and Secondary Education Act of 1965, as amended (ESEA). $200 million in funds is available in fiscal year 2010 under section 1502 of the ESEA for a comprehensive literacy development and education program to advance literacy skills, including pre-literacy skills, reading, and writing, for students from birth through grade 12, including limited-English-proficient students and students with disabilities. To clearly distinguish this program from the Striving Readers program funded from FY 2005 to FY 2009, which focused on adolescent literacy, the Department is referring to the program created pursuant to the FY 2010 appropriation as the “Striving Readers Comprehensive Literacy” program.

The Act reserves $10 million for formula grants to States to create or maintain a State Literacy Team with expertise in literacy development and education for children from birth through grade 12 and to assist States in developing a comprehensive literacy plan. One-half of one percent of these funds is reserved for the Secretary of the Interior for a comprehensive literacy program for schools funded by the Bureau of Indian Education and one-half of one percent is reserved for such programs for grants to the outlying areas.

After reserving up to 5 percent of the total appropriation for national activities, the Department must use the remaining funds for competitive awards to SEAs. SEAs may use up to five percent for State leadership activities and must award not less than 95 percent through subgrants to local educational agencies (LEAs) or, in the case of early literacy, to LEAs or other nonprofit providers of early childhood education that partner with a public or private nonprofit organization or agency with a demonstrated record of effectiveness in improving the early literacy development of children from birth through kindergarten entry and in providing professional development in early literacy, giving priority to such agencies or other entities serving greater numbers or percentages of disadvantaged children.

The Act requires that the subgrants to LEAs be allocated as follows: (1) At least 15 percent to serve children from birth through age five, (2) 40 percent to serve students in kindergarten through grade five, and (3) 40 percent to serve students in middle and high school, through grade 12, including an equitable distribution of funds between middle and high schools. Eligible entities receiving subgrants must use these funds for services and activities that have the characteristics of effective literacy instruction through professional development, screening and assessment, targeted interventions for students reading below grade level, and other research-based methods of improving classroom instruction and practice.

The Department wishes to solicit input, including written input, from literacy experts, literacy organizations, States, other key stakeholders, and members of the public to inform the design and development of this new competition for SEAs.

Because we are inviting public input in this manner, and because we want to facilitate the award of funds in a timely manner, we do not intend to conduct notice-and-comment rulemaking. Section 437(d)(1) of the General Education Provisions Act, 20 U.S.C. 1232(d)(1), allows the Department to waive notice-and-comment rulemaking for the first grant competition under a new or substantially revised program authority. This will be the first competition for the Striving Readers Comprehensive Literacy program.

Details of Public Meeting

Structure of Public Meeting

The Department anticipates that the meeting will have two components as follows:

(1) Input from invited panels of experts and stakeholders.

○ The morning and afternoon sessions of the meeting will each have an invited set of panelists who will have a set amount of time to respond individually to the questions in this notice.

○ The Department representatives will then ask questions of individual panelists and facilitate cross-panelist discussion.

(2) Open opportunity to share input.

○ The morning and afternoon sessions of the meeting will each have 60 to 90 minutes dedicated to opportunities for interested members of the public, who have registered to speak, to respond to the questions in this notice.

○ Each individual scheduled to speak will have five minutes to provide oral input.

○ Written submissions will also be accepted as described in the SUBMISSION OF WRITTEN INPUT section.

The Department will share any updates, including posting an agenda and list of invited experts, online at http://www2.ed.gov/programs/strivingreaders-literacy/index.html.

Topic Areas, Dates, Times, Locations, and Registration Information

Topic Areas: The morning session of the meeting will address the topics of Transition and Alignment; Professional Development, Instruction, and Assessment; and Evidence and Evaluation. The afternoon session of the meeting will address the topics of SEA and LEA Capacity and Support; and Meeting the Needs of Diverse Learners. Specific questions relating to these topics are provided in the Questions for Input section of this notice. The Department reserves the right to change the order of these topics; please check the program Web site at http://www2.ed.gov/programs/strivingreaders-literacy/index.html for the latest information.

Attendance at the meeting: If you are interested in attending the meeting, you should register by sending an e-mail to Striving.readers.comprehensive.literacy@ed.gov with your name, organization, and the session you are interested in attending (morning or afternoon) at least three days before the scheduled meeting date. Registration is not required for attendance but will help us to plan the meeting and to facilitate the security process.

Providing input at the meeting: If you are interested in speaking during the open-input portion of the meeting, you must register by sending an e-mail to Striving.readers.comprehensive.literacy@ed.gov at least three days before the scheduled meeting date. Registrations will be processed on a first-come, first-served basis. People who are unable to attend a meeting in person or who do not register early enough to speak during the meeting are encouraged to submit written input.

Assistance to Individuals with Disabilities at the Public Meetings

The meeting site will be accessible to individuals with disabilities and sign language interpreters will be available. If you need an auxiliary aid or service other than a sign language interpreter to participate in the meeting (e.g., interpreting service such as oral, cued speech, or tactile interpreter; assisted listening device; or materials in alternate format), notify the contact person listed under FOR FURTHER INFORMATION CONTACT as soon as possible before the scheduled meeting date. Although we will attempt to meet every request we receive, we might not be able to make available the requested auxiliary aid or service because of insufficient time to arrange it.

Submission of Written Input

All interested parties, including those who cannot attend a meeting or from whom we do not have time to hear at the meeting, may submit written input in response to this notice.

Written input will be accepted at the meeting site or via e-mail and mail at the addresses listed in the ADDRESSES section of this notice. Written input must be submitted by the date listed in the DATES section.

When submitting input at the meeting, we request that you submit three written copies and an electronic file (CD or diskette) of your statement at the meeting. Please include your name and contact information on the written and electronic files.

Both at the meeting and in your written submission, we encourage you to be as specific as possible. To ensure that your input is fully considered, we urge you to identify clearly the specific question, purpose, and characteristic that each of your suggestions addresses and to arrange your submission in the order of the questions listed later in this notice.

Sharing Input Publicly

The Department is committed to gathering and sharing publicly the input from the meeting and written submissions. The meeting will be video-taped and/or transcribed, and the video and/or transcript will be available for viewing at http://www2.ed.gov/programs/strivingreaders-literacy/index.html. All written input received will also be available for viewing via this Web site.

Questions for Input

In the following paragraphs, we have listed the specific questions on which we seek input. These relate to both SEA and subgrantee uses of funds.

All input, including expert presentations and discussions, public input, and written submissions, should focus primarily on responding to these questions. We encourage you to make your input as specific as possible, to provide evidence to support your proposals, and to present the information in a context and format that will be helpful to the Department in developing the Striving Readers Comprehensive Literacy program competition and to States implementing comprehensive literacy plans and making high-quality literacy subgrant awards.

To ensure that your input is fully considered in the development of the notice inviting applications, we urge you to identify clearly the specific question, purpose, or characteristic that you are addressing, and to arrange your input in the order of the questions as they are listed in the next section.

SEA and LEA Capacity and Support

(1) What should States be considering in their State Literacy Plans to ensure effective literacy and language development and instruction? For example, what are core components of a State Literacy Plan? What roles and capacities should States have or develop in order to effectively support subgrantees in carrying out substantial improvements in literacy and language development, teaching, and learning?

(2) How can this program most effectively support States' and LEAs' transition to new internationally-benchmarked college- and career-ready standards held in common by multiple States, as well as their alignment with State early learning standards?

(3) How can SEAs and subgrantees best leverage the use of funds under the ESEA, the Individuals with Disabilities Education Act, and the Perkins Career and Technical Education Act, as well as other Federal, State, and local funds, for effective literacy development and instruction?

(4) What other key factors should a State consider in regards to how it would structure and administer its subgrant competition?

Transition and Alignment Across Birth Through Grade 12

(1) How should States and LEAs assess the needs of children from birth through grade 12 in order to effectively target the funds to appropriately support literacy and language development?

(2) How can subgrantees ensure that the needs of children from birth through age five will be met under this program? How should subgrantees create effective partnerships with relevant organizations, including the State Advisory Council on Early Childhood Education and Care in their State?

(3) How can subgrantees ensure that the needs of adolescent learners will be met under this program? Specifically, how can subgrantees ensure that schools integrate effective literacy development and instruction into core subject areas and increase motivation and interest in reading and writing?

Meeting the Needs of Diverse Learners

(1) How can a State best ensure that its comprehensive literacy plan will effectively address the needs of economically disadvantaged children and youth, limited-English-proficient children and youth, and children and youth with disabilities?

(2) How can a State ensure that subgrantees will effectively address the needs of economically disadvantaged children and youth, limited-English-proficient children and youth, and children and youth with disabilities?

(3) What should subgrantees consider when addressing the needs of their diverse learners across the age spans?

Professional Development, Instruction, and Assessment

(1) What are the essential components of high-quality literacy-related professional development? What aspects, if any, should be considered essential in a successful subgrant proposal?

(2) In what ways can technology and materials conforming to principles of universal design for learning (UDL) support effective literacy development and instruction for limited-English-proficient children and youth and children and youth with disabilities? What aspects of technology and UDL should be considered for incorporation in subgrant proposals?

(3) What are the critical elements of an integrated, age-appropriate assessment system for identifying the strengths and weaknesses of children and youth and improving literacy development and instruction?

(4) What are the most important ways to collect, analyze, and use data to improve literacy development and instructional practices and child and youth outcomes in early learning settings and in schools?

Evidence and Evaluation

(1) In order to have a rigorous competition and make high-quality subgrant awards, what evidence should States require subgrantees to put forward in their applications? How can early learning providers demonstrate a “record of effectiveness,” as required in the Act?

(2) What approaches should States and subgrantees implement in order to effectively monitor program implementation and outcomes so as to inform continuous program improvement?

(3) What strategies should States and subgrantees implement in order to monitor and evaluate the effectiveness of job-embedded, ongoing professional development for teachers, coaches, principals, and administrators?

(4) What should the Department require regarding rigorous, independent State evaluations of the program, given limited State-level administrative funds?

Accessible Format: Individuals with disabilities can obtain this document in an accessible format (e.g., braille, large print, audiotape, or computer diskette) on request to the program contact person listed under FOR FURTHER INFORMATION CONTACT.

Electronic Access to This Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Program Authority: Consolidated Appropriations Act, 2010, Pub. L. 111-117.

Dated: November 10, 2010.
Thelma Meléndez de Santa Ana,
Assistant Secretary for Elementary and Secondary Education.

[FR Doc. 2010-28779 Filed 11-15-10; 8:45 am]

BILLING CODE 4000-01-P